DEPARTMENT OF JUSTICE

Notice of Lodging of Consent Decree Pursuant to the Comprehensive Environmental Response Compensation and Liability Act (“CERCLA”)

Notice is hereby given that on July 11, 2003, a proposed Consent Decree in United States v. BNZ Materials, Inc. et al., Civil Action No. 00-527-M (“Consent Decree”), was lodged with the United States District Court for the District of New Hampshire.

The proposed Consent Decree resolves the United States' claims against four defendants for the recovery of costs incurred by the United States in response to releases and threatened releases of friable asbestos, a hazardous substance at the Site pursuant to sections 107(a) and 113 of the Comprehensive Environmental Response, Compensation, and Recovery Act, as amended (“CERCLA”), 42 U.S.C. § 9607(a) and 9613 pertaining to the Johns Manville Manufacturing Plant Superfund Site, located in Nashus, New Hampshire (the “Site”). The United States incurred approximately $4,600,000 in past response costs, including enforcement costs and interest, relating to the Site. Under this Consent Decree, the defendants will pay $2,500,000 plus interest within 30 days of entry of the Consent Decree, to resolve their liability for past costs at the Site.

The Department of Justice will receive for a period of thirty (30) days from the date of this publication comments relating to the Consent Decree. Comments should be addressed to the Assistant Attorney General, Environment and Natural Resources Division, P.O. Box 7611, U.S. Department of Justice Washington, DC 20044-7611, and should refer to United States v. BNZ Materials, Inc. et al., D.J. Ref. 90-11-2-07309.

The Consent Decree may be examined at the Office of the United States Attorney, 55 Pleasant Street, Concord, New Hampshire 03301-3904 (contact Civil Chief, Assistant U.S. Attorney Gretchen Witt), and at the U.S. EPA Region I, One Congress Street, Boston, Massachusetts, 02114 (contact Assistant Regional Attorney Steven Schlang). During the public comment period, the Consent Decree, may also be examined on the following Department of Justice Web site http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury.

Ron Kluck,
Assistant Chief, Environmental Enforcement Section, Environment and Natural Resources Division.

[FR Doc. 03-19440 Filed 7-31-03; 8:45 am]

BILLING CODE 4410-15-M